DEPARTMENT OF AGRICULTURE

Submission for OMB Review; Comment Request

March 27, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, D.C. 20503 and to Departmental Clearance Office, USDA, OCIO, Mail Stop 7602, Washington, D.C. 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Farm Service Agency

Title: Disaster Assistance—General (7 CFR part 1945-A).

OMB Control Number: 0560-0170.

Summary of Collection: Subtitle C of the Consolidated Farm and Rural Development Act of 1972, as amended, authorizes emergency loss (EM) loans for the purpose of assisting farmers and ranchers who have suffered weather-related physical and production losses in areas declared by the President, designated by the Secretary of Agriculture, or named for physical loss loans by the Farm Service Agency (FSA) Administrator. For EM production loss loan, applicants must show a 30% loss in at least one basic farming enterprise. For Physical losses, applicants must show that property damaged or destroyed is essential to the continued operation of the farming or ranching operations. Applicant must be unable to obtain commercial credit or recover from the disaster and meet the specific eligibility and repayment requirements. FSA will collect information to evaluate requests for a Secretarial natural disaster designation.

Need and Use of the Information: FSA will collect information on determining whether sufficient losses have been suffered to warrant a Secretarial natural disaster designation, determine whether extenuating circumstances exist to grant a natural disaster designation under the Secretary's discretionary authority. The information will be used by FSA to process State Governor requests for Secretarial natural disaster designations.

Description of Respondents: Farms; Federal Government; State, Local or Tribal Government.

Number of Respondents: 2,236.

Frequency of Responses: Reporting: On occasion.

Total Burden Hours: 988.

Food and Nutrition Service

Title: Status of Claims Against Households.

OMB Control Number: 0584-0069.

Summary of Collection: Section 11, 13, and 16 of the Food Stamp Act of 1977, as amended (the Act) and appropriate Food Stamp Program Regulation are the basis for the information collected on FNS-209. Food Stamp Program regulations require that State agencies submit quarterly form FNS-209, Status of Claims Against Households, reports. The required information provided on this report must be obtained from a State accountable system responsible for establishing claims, sending demand letters, collecting claims, and managing other claim activity.

Need and Use of the Information: The Food and Nutrition Service (FNS) will collect information on the outstanding aggregate claim balance; claims established; collections; any balance and collection adjustments; and the amount to be retained for collecting non-agency error claims. The information will be used by State agencies to ascertain aggregate claim balance and collections for determining overall performance, the collection amounts to return to FNS, and claim retention amounts. FNS will receive collections and report collection activity to Treasury.

Description of Respondents: State, Local or Tribal Government.

Number of Respondents: 53.

Frequency of Responses: Recordkeeping; Reporting: Quarterly.

Total Burden Hours: 742.

Forest Service

Title: Airplane Pilot Qualifications and Approval Record, Helicopter Pilot Qualifications and Approval Record, Airplane Data Record, and Helicopter.

OMB Control Number: 0596-0015.

Summary of Collection: The Forest Service (FS) is the largest owner and operator of aircraft in the federal government outside of the Department of Defense. In conducting the Forest Service land management mission they use 44 owned aircraft with 306 aircraft on loan to 18 States for fire suppression activities. The majority of FS flying is in support of wildland fire suppression. In addition to the agency owned aircraft, the FS contracts with approximately 400 vendors for aviation services used in resource protection and administrative projects. Contractor aircraft and pilots are used to place water and chemical retardants on fires, provide aerial delivery of firefighters to fires, perform reconnaissance, resource surveys, search for lost personnel, and fire detection. Contracts for such services established rigorous qualification requirements for pilots and specific condition/equipment/performance requirements for aircraft. The authority is granted under the Federal Aviation Administration Regulations in Title 14 (Aeronautics and Space) of the Code of Federal Regulations. FS will collect information using forms FS 5700-20 & 20a and FS 5700-21 & 21a.

Need and Use of the Information: FS will collect information to document the basis for approval of contract pilot and aircraft for use in specific FS aviation missions. The information collected from contract pilots in face to face meetings (such as name, age, pilots license number, number of hours flown in type of aircraft, etc.) is based on the length and type of contract but is usually done on a reoccurring annual basis. Without the information supplied on these forms, FS contracting officers and pilot/aircraft inspectors cannot determine if pilots and aircraft meet the detailed qualification, equipment, and condition requirements essential to safe, efficient accomplishment of FS specified flying missions and which are included in contract specifications.

Description of Respondents: Individuals or households; Business or other for-profit; State, Local or Tribal Government.

Number of Respondents: 988.

Frequency of Responses: Reporting: Annually.

Total Burden Hours: 248.

Rural Utilities Service

Title: 7 CFR 1980-I, Community Programs Guaranteed Loans.

OMB Control Number: 0572-NEW.

Summary of Collection: The Rural Utilities Service (RUS) is authorized by Section 306 of the Consolidated Farm and Rural Development Act (7 U.S.C. 1926) to make loans to public agencies, nonprofit corporations, and Indian tribes for the development of water and waste disposal facilities primarily serving rural residents. Implementation of the Community Program guaranteed loan program was effected to comply with the Appropriations Act of 1990 when Congress allocated funds for this authority. The guaranteed loan program encourages lender participation and provides specific guidance in the processing and servicing of guaranteed Water and Waste Disposal loans.

Need and Use of the Information: RUS will collect information to determine applicant/borrower eligibility, project feasibility, and to ensure borrowers operate on a sound basis and use loan funds for authorized purposes. Failure to collect proper information could result in improper determinations of eligibility, improper use of funds, and/or unsound loans.

Description of Respondents: Not-for-profit institutions; State, Local or Tribal Government.

Number of Respondents: 10.

Frequency of Responses: Reporting: On occasion; Annually.

Total Burden Hours: 1,352.

Agricultural Marketing Service

Title: Customer Service Survey (Meat Grading and Certification Services).

OMB Control Number: 0581-NEW.

Summary of Collection: The Agricultural Marketing Act (AMA) of 1946, as amended, authorizes the Secretary of Agriculture to provide consumers with voluntary Federal meat grading and certification services that facilitate the marketing of meat and meat products. The Meat Grading and Certification (MGC) Branch provides these services under the authority of 7 CFR Part 54B Meats, Prepared Meats, and Meat Products (Grading, Certification, and Standards). Applicants (individuals or businesses with financial interest in the product) may request MGC Branch services. Once services are provided, the MGC Branch does not have any way of determining the quality of service that is being provided to its customers. Therefore, the MGC Branch would like to annually conduct a customer service survey to gather information from its customers.

Need and use of the Information: The Agricultural Marketing Service will collect information to evaluate services and assist in planning and managing the program. The information will be used to continually improve the MGC Branch services.

Description of Respondents: Business or other for-profit.

Number of Respondents: 428.

Frequency of Responses: Reporting: Annually.

Total Burden Hours: 36.

Agricultural Marketing Service

Title: Federal-State Shipping Point Inspection Program Customer Service Survey.

OMB Control Number: 0581-NEW.

Summary of Collection: The Agricultural Marketing Service (AMS) provides federal oversight of grading and product certification services of fresh fruits and vegetables at shipping point locations under authority of 7 CFR Part 51, Regulations Governing Inspection, Certification and Standards for Fresh Fruits, Vegetables, and Other Products. These services are provided through cooperative agreements with all State grading and certification services by providing Federal oversight to the state grading programs, including training, license certification, and indirect supervisory oversight of shipping point graders employed by the states. To maintain and improve the quality of these services, AMS has sought to make this process more customer-driven and therefore is seeking opinion from the users of these services. AMS will distribute the FV-600, A Federal-State Shipping Point Inspection Program Customer Service Survey. AMS will collect information using a survey for customers that use the USDA Federal-State Shipping Point Inspection Program services.

Need and Use of the Information: AMS will collect information to maintain and improve grading and certification services through the revision of current grading and certification services and by the development of new and improved services that respond to customer needs while maintaining program integrity. Information collected will be shared with each participating State in a cooperative effort to seek improvements in the delivery of services to the customers and to design new grading and certification services that meet customer needs. If the information is not collected AMS will not be able to obtain timely and accurate information about its services from the customers that use them.

Description of Respondents: Business or other for-profit; farms.

Number of Respondents: 18,000.

Frequency of Responses: Reporting: On occasion.

Total Burden Hours: 3,000.

William McAndrew,
Departmental Clearance Officer.

[FR Doc. 00-8006 Filed 3-30-00; 8:45 am]

BILLING CODE 3410-01-M